DEPARTMENT OF EDUCATION

34 CFR Subtitle A and Chapters I Through VII

[Docket ID: ED-2017-OS-0074]

Evaluation of Existing Regulations

AGENCY: Office of the Secretary, Department of Education.

ACTION: Request for comments; extension of comment period.

SUMMARY: On June 22, 2017, we published in the Federal Register a request for input on regulations that may be appropriate for repeal, replacement, or modification. That request established a 60-day comment period beginning on June 22, 2017, and closing on August 21, 2017. We are extending the public comment period for 30 days, until September 20, 2017.

DATES: The comment period for the request for comments published on June 22, 2017 (82 FR 28431), is extended. We must receive your comments on or before September 20, 2017.

ADDRESSES: Submit your comments through the Federal eRulemaking Portal or via postal mail, commercial delivery, or hand delivery. We will not accept comments by fax or email. To ensure that we do not receive duplicate copies, please submit your comments only once. In addition, please include the Docket ID at the top of your comments.

Federal eRulemaking Portal: Go to www.regulations.gov to submit your comments electronically. Information on using Regulations.gov, including instructions for accessing agency documents, submitting comments, and viewing the docket, is available on the site under the “Help” tab.

Postal Mail, Commercial Delivery, or Hand Delivery: The Department strongly encourages commenters to submit their comments electronically. However, if you mail or deliver your comments in response to this request, address them to Hilary Malawer, 400 Maryland Avenue SW., Room 6E231, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: For further information on this document, please contact Hilary Malawer, Assistant General Counsel, Office of the General Counsel, U.S. Department of Education, 400 Maryland Avenue SW., Room 6E231, Washington, DC 20202. Telephone: (202) 401-6148 or by email: Hilary.Malawer@ed.gov.

If you use a telecommunications device for the deaf (TDD) or a text telephone (TTY), call the Federal Relay Service (FRS), toll free, at 1-800-877-8339.

SUPPLEMENTARY INFORMATION: On June 22, 2017, in accordance with Executive Order 13777, “Enforcing the Regulatory Reform Agenda,” we published in the Federal Register a request for input on regulations that may be appropriate for repeal, replacement, or modification (82 FR 28431). That request established a 60-day comment period beginning on June 22, 2017, and closing on August 21, 2017. To ensure that all interested parties are provided ample time and opportunity to submit comments, we are extending the public comment period for an additional 30 days. Written comments must be submitted to us no later than September 20, 2017.

Accessible Format: Individuals with disabilities can obtain this document in an accessible format (e.g., Braille, large print, audiotape, or compact disc) on request to the person listed under FOR FURTHER INFORMATION CONTACT.

Electronic Access to This Document: The official version of this document is the document published in the Federal Register. Free internet access to the official edition of the Federal Register and the Code of Federal Regulations is available via the Federal Digital System at: www.gpo.gov/fdsys. At this site, you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Dated: August 7, 2017.
Betsy DeVos,
Secretary of Education.

[FR Doc. 2017-16876 Filed 8-10-17; 8:45 am]

BILLING CODE 4000-01-P